DEPARTMENT OF ENERGY

Federal Energy Regulatory Commission

[Docket No. CP14-151-000]

Notice of Request Under Blanket Authorization; Pan Gas Storage, LLC d/b/a Southwest Gas Storage Company

Take notice that on April 14, 2014 Southwest Gas Storage Company (Southwest), P.O. Box 4967, Houston, Texas 77210-4967, filed in the above Docket, a prior notice request pursuant to sections 157.205, 157.208(b), 157.213(b) and 157.216(b)(2) of the Commission's regulations under the Natural Gas Act (NGA) and Southwest's blanket certificate issued in CP99-230-000, for authorization to construct, modify and abandon certain natural gas storage facilities located the Howell Storage Field in Livingston County, Michigan, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Stephen Veatch, Senior Director of Certificates, Southwest Gas Storage Company, 1300 Main Street, Houston, Texas 77002, or call (713) 989-2024, or fax (713) 989-1176, or by email Stephen.veatch@sug.com.

Specifically, Southwest is seeking authorization to continue modifying Southwest's Howell Storage Field to serve the needs of the applicant and its customers. The proposed modifications consist of reentering and modifying two existing injection-withdrawal vertical wells and drilling dual horizontal wellbore extensions from each existing well; converting six existing injection-withdrawal wells to observation well status; relaying/modifying three laterals lines; and abandoning in place six associated storage lateral lines and appurtenant facilities. Southwest states that the proposed modifications will have no impact on the certified physical parameters including total gas storage inventory, reservoir pressure, reservoirs and buffer boundaries, and certified capacity. Southwest also states that the estimated cost of the Project is $4,365,622 and $965,622 for the well conversion and to abandon and or modify the storage laterals respectively.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (www.ferc.gov) under the “e-Filing” link.

Dated: April 23, 2014.
Kimberly D. Bose,
Secretary.

[FR Doc. 2014-09804 Filed 4-29-14; 8:45 am]

BILLING CODE 6717-01-P